DEPARTMENT OF COMMERCE

National Oceanic and Atmospheric Administration

Agency Information Collection Activities; Submission to the Office of Management and Budget (OMB) for Review and Approval; Comment Request; Pacific Islands Region Vessel and Gear Identification Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 28, 2020, (85 FR 68305) during a 60-day comment period. This notice allows for an additional 30 days for public comments.

Agency: National Oceanic and Atmospheric Administration (NOAA), Commerce.

Title: Pacific Islands Region Vessel and Gear Identification Requirements.

OMB Control Number: 0648-0360.

Form Number(s): None.

Type of Request: Regular.

Number of Respondents: 484.

Average Hours per Response: 1 Hour, Vessel ID Requirements; 1 Minute, Gear ID Requirements.

Total Annual Burden Hours: 1,217.

Needs and Uses: Regulations at 50 CFR 665.16, 300.35, and 300.217 require that all U.S. vessels with Federal permits fishing for western Pacific fishery management unit species display identification markings on the vessel. Each Vessel registered for use with a permit issued under Subparts B through E and Subparts G through I of 50 CFR 665, must have the vessel's official number displayed on both sides of the deckhouse or hull, and on an appropriate weather deck. Regulations at 50 CFR 300.35 require that each vessel fishing under the South Pacific Tuna Treaty must display its international radio call sign on the hull, the deck, and on the sides of auxiliary equipment, such as skiffs and helicopters. Vessels fishing for highly migratory species in the Western and Central Pacific Fisheries Commission (WCPFC) Convention Area and in international waters must comply with the regulations at 50 CFR 300.217 requiring the display of the vessel's international radio call sign on both sides of the deckhouse or hull, and on an appropriate weather deck, unless specifically exempted. In each case, the numbers must be a specific size and in specified locations. The display of the identifying numbers aids in fishery law enforcement.

The regulations at 50 CFR 665.128, 665.228, 665.428, 665.628, and 665.804 require that certain fishing gear must be marked. In the pelagic longline fisheries, the vessel operator must ensure that the official number of the vessel is affixed to every longline buoy and float. In the coral reef ecosystem fisheries, the vessel number must be affixed to all fish and crab traps. The marking of gear links fishing or other activity to the vessel, aids law enforcement, and is valuable in actions concerning the damage to or loss of gear, and civil proceedings.

Affected Public: Mainly small for-profit businesses and individuals.

Frequency: As required.

Respondent's Obligation: Mandatory.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0360.

Sheleen Dumas,
Department PRA Clearance Officer, Office of the Chief Information Officer, Commerce Department.

[FR Doc. 2021-04113 Filed 2-26-21; 8:45 am]

BILLING CODE 3510-22-P